NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before November 18, 2002. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-837-3698 or by e-mail to records.mgt@nara.gov. Requesters must cite the control number, which appears in parentheses after the name of the agency which submitted the schedule, and must provide a mailing address. Those who desire appraisal reports should so indicate in their request.

FOR FURTHER INFORMATION CONTACT: Larry Baume, Acting Director, Life Cycle Management Division (NWML), National Archives and Records Administration, 8601 Adelphi Road, College Park, MD 20740-6001. Telephone: 301-837-1505. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Foreign Agricultural Service (N1-166-02-2, 4 items, 4 temporary items). Federal Register Docket files. Included are copies of documents submitted for publication, background materials, public correspondence, and electronic copies of records created using electronic mail and word processing.

2. Department of Justice, Drug Enforcement Administration (N1-170-02-4, 4 items, 2 temporary items). Inputs and outputs for an electronic system relating to clandestine laboratory seizures. The electronic data is proposed for permanent retention along with the system documentation.

3. Department of Labor, Bureau of Labor Statistics (N1-257-01-1, 8 items, 5 temporary items). Inputs, extra copies of system outputs, and extra copies of documentation for the Occupational Outlook Technical Memoranda Record Files electronic system. Also included are electronic records created using electronic mail and word processing. Proposed for permanent retention are paper records that pre-date the automated system, electronic data, and system documentation.

4. Department of the Treasury, Bureau of Public Debt (N1-53-02-12, 3 items, 3 temporary items). Records pertaining to such matters as interest payments on savings bonds, bank error adjustments, and miscellaneous accounting work.

5. Department of the Treasury, Bureau of the Public Debt (N1-53-02-7), 10 items, 10 temporary items). Records of the Division of Accounting Services relating to financial and securities accounting, including transaction reconciliation.

6. Department of the Treasury, Bureau of Public Debt (N1-53-02-11, 2 items, 2 temporary items). Records transferred from the Federal Reserve Bank of Philadelphia relating to the Federal Housing Administration Debenture Program. Included are such records as system conversion reports, daily work envelopes, paid checks, daily summary reports, and address list updates.

7. Department of the Treasury, Bureau of the Public Debt (N1-53-02-15, 5 items, 5 temporary items). Office of Chief Counsel litigation case files, weekly reports concerning legal activities, and reports to Congress and GAO concerning regulations to be published in the Federal Register. Also included are electronic copies of documents created using electronic mail and word processing.

8. Department of the Treasury, Bureau of the Public Debt (N1-53-02-16, 6 items, 6 temporary items). Reports used by the Treasury Securities Accounting Branch to identify errors and ensure accurate reporting of the public debt. Also included are electronic copies of documents created using electronic mail and word processing.

9. Department of the Treasury, Office of Foreign Assets Control (N1-56-02-4, 64 items, 55 temporary items).

Records relating to foreign assets control, including such records as an electronic tracking system for correspondence, working files, briefing papers, guidelines, case files on civil penalties, financial management files, enforcement case files, legislative materials, and licensing applications. Also included are electronic copies of records created using electronic mail and word processing. Proposed for permanent retention are such files as recordkeeping copies of blocked assets reports and the blocked assets master data file along with the related system documentation, case files relating to blocked persons and specially designated nationals, and significant subject files.

10. Department of the Treasury, United States Mint (N1-104-00-1, 27 items, 21 temporary items). Facilitative records relating to the design, production, marketing, and sales of coins, medals, and other Mint products, including electronic copies of records created using electronic mail and word processing. Proposed for permanent retention are recordkeeping copies of mint product case files, numismatic advertising and promotional materials, coin and medal designs selected for final review, product summary reports, and Congressional inquiries.

11. Department of Veterans Affairs, Veterans Health Administration (N1-15-02-4, 12 items, 12 temporary items). Records of the Pathology and Laboratory Medicine Service relating to such matters as general laboratory quality control, proficiency test surveys, instrument maintenance, test procedures, blood bank operations, and the donation and receipt of organs for transplantation. Also included are electronic copies of records created using electronic mail and word processing systems. Reports that relate to individual patient care are filed in the patient's medical folder, which was previously approved for disposal 75 years after last episode of care.

12. Administrative Office of the U.S. Courts, Office of Legislative Affairs (N1-116-02-4, 7 items, 5 temporary items). Inputs to and outputs of the Judicial Vacancies Listings Database and reports summarizing items in the Congressional Record that are relevant to the judiciary. Also included are electronic copies of documents created using electronic mail and word processing. The master file of the Judicial Vacancies Listings Database is proposed for permanent retention along with the related system documentation.

13. Environmental Protection Agency, Agency-wide (N1-412-99-17, 3 items, 2 temporary items). Records relating to international activities and agreements, including bilateral and cooperative research agreements, correspondence, and related documentation. Also included are electronic copies of documents created using electronic mail and word processing. Proposed for permanent retention are recordkeeping copies of files relating to those international activities and agreements that result in significant changes in agency policies and practices or generate great media attention

14. Federal Retirement Thrift Investment Board, Office of Benefits and Investments (N1-474-02-1, 3 items, 3 temporary items). Paper and electronic copies of records relating to loan and withdrawal policies and procedures for Federal employees covered under the Thrift Savings Plan. Also included are electronic copies of records created using electronic mail and word processing.

15. National Archives and Records Administration, Office of Records Services “ Washington, DC (N1-64-02-11, 6 items, 5 temporary items). Records relating to the Modern Archives Institute. Included are such files as course evaluation forms completed by participants, records relating to administrative and logistics matters, background papers accumulated by instructors, and electronic copies of records created using electronic mail and word processing. Proposed for permanent retention are recordkeeping copies of files accumulated by the Institute Director, which include such records as curriculum plans, lists of class participants, class profiles, aggregated evaluation data, and other records which document major changes in course content and structure.

Dated: September 24, 2002.
Michael J. Kurtz,
Assistant Archivist for Record Services, Washington, DC.

[FR Doc. 02-24955 Filed 10-1-02; 8:45 am]

BILLING CODE 7515-01-P